DEPARTMENT OF AGRICULTURE

Forest Service

White River National Forest; Eagle County, CO; 2007 Vail Ski Area Improvements Proposal

AGENCY: Forest Service, USDA.

ACTION: Notice of intent to prepare an environmental impact statement.

SUMMARY: The USDA Forest Service will prepare an Environmental Impact Statement (EIS) to disclose the anticipated environmental effects of the 2007 Vail Ski Area Improvements proposal. The proposal includes projects designed to enhance the guest experience at Vail through a series of strategic, qualitative improvements and is tailored to improve Vail's ability to respond to its changing market/guests' demands and preferences.

DATES: Comments concerning the scope of the analysis must be received by December 17th. The draft environmental impact statement is expected in May 2008 and the final environmental impact statement is expected in July 2008.

ADDRESSES: Send written comments Maribeth Gustafson, Forest Supervisor, c/o Roger Poirier, Winter Sports Program Manager, White River National Forest, 900 Grand Avenue, Glenwood Springs, CO 81602-0948.

For further information, mail correspondence to: Don Dressler—Snow Ranger, Holy Cross Ranger District 24747 U.S. Highway 24, P.O. Box 190, Minturn, CO 81645.

FOR FURTHER INFORMATION CONTACT: Don Dressler—Snow Ranger, Holy Cross Ranger District 24747 U.S. Highway 24, P.O. Box 190, Minturn, CO 81645, drdressler@fs.fed.us or (970) 827-5157.

SUPPLEMENTARY INFORMATION: The Proposed Action addresses issues related to the quality of the recreational experience. Presently, alpine skiing/snowboarding and other resort activities are provided to the public through a Special Use Permit (SUP) issued by the White River National Forest. All elements of the proposal remain within the existing SUP boundary area. The proposed improvements are consistent with the 2002 Revised White River National Forest Land and Resource Management Plan (Forest Plan).

Purpose and Need for Action

The overall purpose and need for the Proposed Action is to enhance the guest experience through a series of strategic, qualitative improvements that will enable Vail to better respond to its changing market/guests' demands, expectations, and preferences—both in the near and long-term. The following basic needs are addressed by the Proposed Action:

(1) Expedite mountain circulation and afternoon egress between Vail Mountain and the Vail Village / Lionshead base areas.

(2) Improve skier/rider access to Sundown Bowl.

(3) Improve Vail's lift and vehicular maintenance facilities.

(4) Improve early-season and low snow year skiing/riding on the front side of Vail Mountain.

(5) Provide additional on-mountain dining opportunities.

(6) Improve access to West Earl's Bowl for both skiers/riders and mountain operations.

(7) Segregate ski and snowboard racing/training from the general public.

Proposed Action

All proposed projects are within Vail's existing SUP boundary. The major aspects of the Proposed Action include:

• Upgrade Chair #5 (High Noon) to a high-speed, detachable chairlift;

• Install a high-speed, detachable chairlift in Sun Down Bowl;

• Construct a new on-mountain restaurant at the confluence of Chairs #4, #5, and #11;

• Expand the existing Golden Peak race venue to accommodate additional racing and training;

• Create a permanent, groomable route to the western extent of Earl's Bowl which will expedite skier/rider access as well as enhance Ski Patrol's ability to respond to their needs;

• Convert the existing Snow Summit SnowCat Garage into a lift maintenance facility, and construct a new, larger snowcat garage adjacent to it;

• Install additional snowmaking infrastructure on three existing trails—Simba, Upper Born Free, and Ledges—totalling approximately 95 acres of coverage;

• Infrastructural improvements associated with theses projects are also proposed, including power line installation to the bottom of Chair #5 and the proposed Sun Down Chairlift, improvements to the existing Chair #5 access road, regrading terminal locations, and installation of retaining walls and culverts.

Responsible Official

The responsible official is Maribeth Gustafson, Forest Supervisor for the White River National Forest, 900 Grand Ave., P.O. Box 948, Glenwood Springs, Colorado 81602. The responsible official will document the decision and reasons for the decision in a Record of Decision. That decision will be subject to appeal under 36 CFR part 215 or part 251.

Nature of Decision To Be Made

Based on the analysis that will be documented in the forthcoming EIS, the responsible official will decide whether or not to implement, in whole or in part, the Proposed Action or another alternative developed by the Forest Service.

Scoping Process

Public questions and comments regarding this proposal are an integral part of this environmental analysis process. Comments will be used to identify issues and develop alternatives to Vail's proposal. To assist the Forest Service in identifying and considering issues and concerns on the proposed action, comments should be as specific as possible.

Input provided by interested and/or affected individuals, organizations and governmental agencies will be used to identify resource issues that will be analyzed in the Draft EIS. The Forest Service will identify significant issues raised during the scoping process, and use them to formulate alternatives, prescribe mitigation measures and project design features, or analyze environmental effects.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: November 9, 2007.
Maribeth Gustafson,
White River National Forest Supervisor.

[FR Doc. E7-22429 Filed 11-15-07; 8:45 am]

BILLING CODE 3410-11-P